DEPARTMENT OF COMMERCE

National Oceanic and Atmospheric Administration

Proposed Information Collection; Comment Request; Nautical Discrepancy Reporting System

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before March 16, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Kristen Crossett, (240) 533-0113, kristen.crossett@noaa.gov.

SUPPLEMENTARY INFORMATION:

I. Abstract

This request is for a revision and extension of a currently approved information collection.

NOAA's Office of Coast Survey is the nation's nautical chartmaker, maintaining and updating over a thousand charts covering the 3.5 million square nautical miles of coastal waters in the U.S. Exclusive Economic Zone and the Great Lakes. The marine transportation system relies on charting accuracy and precision to keep navigation safe and coastal communities protected from environmental disasters at sea.

Coast Survey also writes and publishes the United States Coast Pilot®, a series of nine nautical books that supplement nautical charts with essential marine information that cannot be shown graphically on the charts and are not readily available elsewhere. Subjects include, but are not limited to, channel descriptions, anchorages, bridge and cable clearances, tides and tidal currents, prominent features, pilotage, towage, weather, ice conditions, wharf descriptions, dangers, routes, traffic separation schemes, small craft facilities and Federal Regulations applicable to navigation.

The marine environment and shorelines are constantly changing. NOAA makes every effort to update information portrayed in charts and described in the Coast Pilot. Sources of information include, but are not limited to: Pilot associations, shipping companies, towboat operators, state marine authorities, city marine authorities, local port authorities, marine operators, hydrographic research vessels, naval vessels, Coast Guard cutters, merchant vessels, fishing vessels, pleasure boats, U.S. Power Squadron Units, U.S. Coast Guard Auxiliary Units, and the U.S. Army Corps of Engineers.

The purpose of NOAA's Nautical Discrepancy Reporting System is to offer a formal, standardized instrument for recommending changes, corrections, and updates to nautical charts and the Coast Pilot, and to monitor and document the accepted changes. Coast Survey solicits information through the stakeholder engagement and feedback tool ASSIST (https://www.nauticalcharts.noaa.gov/customer-service/assist/).

Coast Survey is proposing to add a Citizen Science component to the collection, which would allow boating groups or individuals to submit reports to update the charts. Adding the Citizen Science component to the collection method will benefit Coast Survey by allowing the public to “adopt” a product or part of a product and provide annual data updates that directly affect that product or products. Data obtained through these systems is used to update U.S. nautical charts and the United States Coast Pilot.

II. Method of Collection

Respondents can submit discrepancy reports electronically or by telephone (888-990-6622).

III. Data

OMB Control Number: 0648-0007.

Form Number(s): None.

Type of Review: Regular submission (Revision of a currently approved collection).

Affected Public: Business or other for profit; individuals or households; not for-profit institutions; federal government; state, local or tribal government.

Estimated Number of Respondents: 900.

Estimated Time per Response: 10 min.

Estimated Total Annual Burden Hours: 150.

Estimated Total Annual Cost to Public: $0 in record keeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-00507 Filed 1-14-20; 8:45 am]

BILLING CODE 3510-JE-P